DEPARTMENT OF AGRICULTURE

Food Safety and Inspection Service

[Docket No. 03-014N]

Notice of Request for Extension and Revision of a Currently Approved Information Collection

AGENCY: Food Safety and Inspection Service, USDA.

ACTION: Notice and request for comments.

SUMMARY: In accordance with the Paperwork Reduction Act of 1995 and the Office of Management and Budget (OMB) regulations, this notice announces the Food Safety and Inspection Service's (FSIS) intention to request an extension for and revision to a currently approved information collection package (ICP) regarding Pathogen Reduction and the Hazard Analysis and Critical Control Point (HACCP) System. In addition, FSIS plans to incorporate the currently approved Eschericha coli (E. coli) contamination in beef products information collection package into the revised and extended Pathogen Reduction/HACCP information collection package.

DATES: Comments on this notice must be received on or before July 28, 2003.

FOR FURTHER INFORMATION OR COMMENTS CONTACT: John O' Connell, Paperwork Reduction Act Coordinator, Food Safety and Inspection Service, USDA, 300 12th Street, SW., Room 112, Washington, DC 20250-3700, (202) 720-0345.

SUPPLEMENTARY INFORMATION: Title: Pathogen Reduction/Hazard Analysis and Critical Control Point (HACCP) System.

OMB Number: 0583-0103.

Expiration Date of Approval: 2/29/2004.

Type of Request: Extension and revision of a currently approved information collection.

Abstract: FSIS has been delegated the authority to exercise the functions of the Secretary as specified in the Federal Meat Inspection Act (FMIA) (21 U.S.C. 601 et seq.) and the Poultry Products Inspection Act (PPIA) (21 U.S.C. 451 et seq.). These statutes mandate that FSIS protect the public by taking regulatory actions to provide that meat and poultry products are safe, wholesome, unadulterated, and properly labeled and packaged.

FSIS is requesting an extension and revision to the ICP addressing meat and poultry paperwork and recordkeeping requirements regarding Pathogen Reduction and the HACCP system.

FSIS has established requirements applicable to meat and poultry establishments designed to reduce the occurrence and numbers of pathogenic microorganisms on meat and poultry products, reduce the incidence of foodborne illness associated with the consumption of those products, and provide a new framework for modernization of the meat and poultry inspection system. The regulations (1) require that each establishment develop and implement written sanitation standard operating procedures (Sanitation SOPs); (2) require regular microbial testing for generic E. coli by slaughter establishments to verify the adequacy of the establishment's process controls for the prevention and removal of fecal contamination and associated bacteria; (3) establish pathogen reduction performance standards for Salmonella that slaughter establishments and establishments producing raw ground products must meet; and (4) require that all meat and poultry establishments develop and implement a system of preventive controls designed to improve the safety of their products, known as HACCP.

FSIS plans to incorporate the currently approved E. coli contamination in beef products ICP into this revised and extended Pathogen Reduction/HACCP ICP. The OMB approval number for the E. coli contamination ICP is 0583-0103. FSIS has decided to combine the E. coli contamination in beef products ICP into the Pathogen Reduction/HACCP ICP because the Pathogen Reduction/HACCP ICP covers information collections that occur under the Agency's pathogen reduction efforts. The E. coli contamination in beef products ICP covers the Agency's collection of information from Federal grinding establishments concerning the suppliers of source materials.

Estimate of Burden: The public reporting burden for this collection of information is estimated to average 0.128 hours per response.

Respondents: Meat and poultry establishments.

Estimated Number of Respondents: 8,114.

Estimated Number of Responses per Respondent: 7,732.

Estimated Total Annual Burden on Respondents: 8,051,306.

Copies of this information collection assessment can be obtained from John O' Connell, Paperwork Reduction Act Coordinator, Food Safety and Inspection Service, USDA, 300 12th Street, SW., Room 112, Washington, DC 20250-3700, (202) 720-5627,(202)720-0345.

Comments are invited on: (a) Whether the proposed collection of information is necessary for the proper performance of FSIS' functions, including whether the information will have practical utility; (b) the accuracy of FSIS' estimate of the burden of the proposed collection of information, including the validity of the methodology and assumptions used; (c) ways to enhance the quality, utility, and clarity of the information to be collected; ways to minimize the burden of the collection of information on those who are to respond, including through the use of appropriate automated, electronic, mechanical, or other technological collection techniques, or other forms of information technology. Comments may be sent to both JohnO' Connell, Paperwork Reduction Act Coordinator, at the address provided above, and the Desk Officer for Agriculture, Office of Information and Regulatory Affairs, Office of Management and Budget, Washington, DC 20253.

All responses to this notice will be summarized and included in the request for OMB approval. All comments will also become a matter of public record.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the Internet at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and web page, FSIS is able to provide information to a much broader, more diverse audience.

For more information contact the Congressional and Public Affairs Office, at (202) 720-9113. To be added to the free e-mail subscription service (Listserv) go to the “Constituent Update” page on the Internet at http://www.fsis.usda.gov/oa/update/update.htm. Click on the “Subscribe to the Constituent Update Listserv” link, then fill out and submit the form.

Done at Washington, DC, on: May 21, 2003.
Garry L. McKee,
Administrator.

[FR Doc. 03-13252 Filed 5-27-03; 8:45 am]

BILLING CODE 3410-DM-P